FEDERAL COMMUNICATIONS COMMISSION

47 CFR Part 73

[DA 08-30; MB Docket No. 07-131; RM-11377]

Radio Broadcasting Services; Live Oak, FL

AGENCY: Federal Communications Commission.

ACTION: Final rule.

SUMMARY: The Audio Division, at the request of RTG Radio, LLC, deletes vacant Channel *259A at Live Oak, Florida, from the FM Table of Allotments, and, in its place, allots Channel *261A at Live Oak as the community's first local FM service. Channel *261A can be allotted to Live Oak, Florida, in compliance with the Commission's minimum distance separation requirements with a site restriction of 10.4 km (6.5 miles) south of Live Oak at the following reference coordinates: 30-12-26 North Latitude and 83-01-26 West Longitude.

DATES: Effective February 21, 2008.

ADDRESSES: Federal Communications Commission, 445 12th Street, SW., Washington, DC 20554.

FOR FURTHER INFORMATION CONTACT: Deborah Dupont, Media Bureau, (202) 418-2180.

SUPPLEMENTARY INFORMATION: This is a synopsis of the Commission's Report and Order, MB Docket No. 07-131, adopted January 2, 2008, and released January 7, 2008. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Florida, is amended by removing Channel *259A, and by adding Channel *261A at Live Oak.

Federal Communications Commission.
John A. Karousos,
Assistant Chief, Audio Division, Media Bureau.

[FR Doc. E8-1330 Filed 1-24-08; 8:45 am]

BILLING CODE 6712-01-P